NATIONAL AERONAUTICS AND SPACE ADMINISTRATION

[Notice 07-041]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: May 29, 2007.

FOR FURTHER INFORMATION CONTACT: Robert M. Padilla, Patent Counsel, Ames Research Center, Code 202A-4, Moffett Field, CA 94035-1000; telephone (650) 604-5104; fax (650) 604-2767.

NASA Case No. ARC-16013-1: Nanostructure Sensing and Transmission of Gas Data;

NASA Case No. ARC-16014-1: Controlled Nanostructure Sensing and Transmission of Gas Data.

Dated: May 21, 2007.
Keith T. Sefton,
Deputy General Counsel, Administration and Management.

[FR Doc. E7-10165 Filed 5-25-07; 8:45 am]

BILLING CODE 7510-13-P